DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of 18 individuals whose property and interests in property have been unblocked pursuant to Executive Order 12978 of October 21, 1995, “Blocking Assets and Prohibiting Transactions With Significant Narcotics Traffickers.”

DATES: The unblocking and removal from the list of Specially Designated Nationals and Blocked Persons (“SDN List”) of the 18 individuals identified in this notice whose property and interests in property were blocked pursuant to Executive Order 12978 of October 21, 1995, is effective on March 6, 2012.

FOR FURTHER INFORMATION CONTACT: Assistant Director, Sanctions Compliance & Evaluation, Department of the Treasury, Office of Foreign Assets Control, Washington, DC 20220. Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On March 6, 2012, the Director of OFAC removed from the SDN List the 18 individuals listed below, whose property and interests in property were blocked pursuant to the Order:

1. ALVAREZ DE LA TORRE, Mario Andres, c/o AMERICANA DE COSMETICOS S.A., Bogota, Colombia; c/o COSMEPOP, Bogota, Colombia; DOB 6 Mar 1972; Cedula No. 232594 (Colombia) (individual) [SDNT]

2. CARRERO BURBANO, Emma Alexandra, c/o DROMARCA Y CIA. S.C.S., Bogota, Colombia; c/o FARMACOOP, Bogota, Colombia; c/o LABORATORIOS KRESSFOR DE COLOMBIA S.A., Bogota, Colombia; Cedula No. 52362326 (Colombia) (individual) [SDNT]

3. CASQUETE VARGAS, Orlando, c/o ALFA PHARMA S.A., Bogota, Colombia; c/o LABORATORIOS GENERICOS VETERINARIOS, Bogota, Colombia; c/o LABORATORIOS KRESSFOR, Bogota, Colombia; c/o PENTA PHARMA DE COLOMBIA S.A., Bogota, Colombia; DOB 7 Jan 1957; Cedula No. 19270159 (Colombia) (individual) [SDNT]

4. LEON REYES, German, c/o COLPHAR S.A., Bogota, Colombia; Cedula No. 79273729 (Colombia); Passport 79273729 (Colombia) (individual) [SDNT]

5. LOPEZ SANDOVAL, Fernando Alberto, c/o DISTRIBUIDORA SANAR DE COLOMBIA S.A., Cali, Colombia; c/o DISTRIEXPORT S.A., Bogota, Colombia; c/o FARMACOOP, Bogota, Colombia; c/o INCOMMERCE S.A., Cali, Colombia; DOB 12 Oct 1975; Cedula No. 94450287 (Colombia); Passport 94450287 (Colombia) (individual) [SDNT]

6. MANJARRES FORERO, Baudelino, c/o CAJA SOLIDARIA, Bogota, Colombia; c/o CREDISOL, Bogota, Colombia; c/o FOMENTAMOS, Bogota, Colombia; DOB 24 May 1949; Cedula No. 19073383 (Colombia); Passport 19073383 (Colombia) (individual) [SDNT]

7. MEDINA FAJARDO, Yovany (a.k.a. MEDINA FAJARDO, Yovani), c/o CODISA, Bogota, Colombia; c/o FARMACOOP, Bogota, Colombia; DOB 21 Nov 1969; Cedula No. 11317493 (Colombia); Passport 11317493 (Colombia) (individual) [SDNT]

8. MOSCOSO MONTES, Nelly Fabiola, c/o ADMACOOP, Bogota, Colombia; c/o CODISA, Bogota, Colombia; c/o FARMACOOP, Bogota, Colombia; DOB 5 May 1964; Cedula No. 51740771 (Colombia); Passport 51740771 (Colombia) (individual) [SDNT]

9. NINO VALBUENA, Luis German, c/o COLPHAR S.A., Bogota, Colombia; Cedula No. 19423011 (Colombia); Passport 19423011 (Colombia) (individual) [SDNT]

10. OSPINA LIZALDA, Marina, c/o ADMINISTRADORA DE SERVICIOS VARIOS CALIMA S.A., Cali, Colombia; c/o CHAMARTIN S.A., Cali, Colombia; Cedula No. 31838118 (Colombia); Passport 31838118 (Colombia) (individual) [SDNT]

11. PAREDES GONZALEZ, Nohora, c/o COPSERVIR LTDA., Bogota, Colombia; DOB 6 Aug 1963; Cedula No. 36376456 (Colombia) (individual) [SDNT]

12. PUERTO, Luis Alfredo, c/o ADMACOOP, Bogota, Colombia; c/o CODISA, Bogota, Colombia; DOB 17 Dec 1955; Cedula No. 79113154 (Colombia); Passport 79113154 (Colombia) (individual) [SDNT]

13. RAMOS BONILLA, Blanca Clemencia, c/o LABORATORIOS BLAIMAR DE COLOMBIA S.A., Bogota, Colombia; c/o COSMEPOP, Bogota, Colombia; c/o LATINA DE COSMETICOS Y DISTRIBUCIONES S.A., Bogota, Colombia; DOB 19 Mar 1959; Cedula No. 41767311 (Colombia); Passport 41767311 (Colombia) (individual) [SDNT]

14. RICUARTE FLOREZ, Gilma Leonor, c/o LABORATORIOS GENERICOS VETERINARIOS, Bogota, Colombia; DOB 20 Apr 1961; Cedula No. 51640309 (Colombia) (individual) [SDNT]

15. SANCHEZ DE VALENCIA, Dora Gladys, c/o INMOBILIARIA U.M.V. S.A., Cali, Colombia; DOB 7 AUG 1955; Cedula No. 31273248 (Colombia) (individual) [SDNT]

16. SALAZAR, Jose Leonel, c/o INMOBILIARIA U.M.V. S.A., Cali, Colombia; c/o COMERCIALIZADORA INTERNACIONAL VALLE DE ORO S.A., Cali, Colombia; DOB 14 Mar 1956; Cedula No. 10529253 (Colombia) (individual) [SDNT]

17. SOLAQUE SANCHEZ, Alfredo Alfonso, c/o LABORATORIOS KRESSFOR DE COLOMBIA S.A., Bogota, Colombia; c/o DISTRIBUIDORA DE DROGAS CONDOR LTDA., Bogota, Colombia; c/o ALFA PHARMA S.A., Bogota, Colombia; c/o PENTACOOP LTDA., Bogota, Colombia; c/o PENTA PHARMA DE COLOMBIA S.A., Bogota, Colombia; c/o LABORATORIOS BLAIMAR DE COLOMBIA S.A., Bogota, Colombia; DOB 18 Dec 1962; Cedula No. 79261845 (Colombia) (individual) [SDNT]

18. VARGAS VASQUEZ, Jorge Alberto, c/o AMERICANA DE COSMETICOS S.A., Bogota, Colombia; c/o DISTRIEXPORT S.A., Bogota, Colombia; DOB 30 Jun 1960; Cedula No. 19401630 (Colombia); Passport 19401630 (Colombia) (individual) [SDNT]

Dated: March 6, 2012.
Adam J. Szubin,
Director, Office of Foreign Assets Control.

[FR Doc. 2012-5834 Filed 3-9-12; 8:45 am]

BILLING CODE 4810-AL-P